DEPARTMENT OF DEFENSE

Department of the Army

Army Science Board Request for Information on Technology and Core Competencies

AGENCY: Department of the Army, DoD.

ACTION: Request for information regarding support to Army Core Competencies.

SUMMARY: Pursuant to the Federal Advisory Committee Act of 1972 (5 U.S.C., Appendix, as amended), the Sunshine in the Government Act of 1976 (U.S.C. 552b, as amended) and 41Code of the Federal Regulations (CFR 102-3.140 through 160, the Department of the Army requests information on science and technology (S&T) research, operational concepts, and mission support innovations to support Army core competencies. No funds are available for any proposal or information submission and submitting information does not bind the Army for any future contracts/grants resulting from this request for information.

The Army Science Board is requesting information from organizations external to the Army that will help the board complete its analysis and ensure that all viable sources of information are explored. Based on information submitted in response to this request the Army Science Board may invite selected organizations to provide additional information on technologies of interest.

To supplement the information developed in previous studies and otherwise available to the Board, organizations are invited to submit information on technologies to support core competencies that they believe should be considered. Of particular interest are those technologies that support Army core competencies and can be developed externally, either with support from the Army or from other sources.

Specific information requested is: Identification of technology and core competency it supports; Description of the technology, including current maturity and current performers; description of how the technology supports the core competency; and description of why this technology pursuit/capability is best performed by the industrial base or other organization external to the Army, rather than performed internal to the Army.

ADDRESSES: Written submissions are to be submitted to the: Army Science Board, ATTN: Designated Federal Officer, 2530 Crystal Drive, Suite 7098, Arlington, VA 22202.

FOR FURTHER INFORMATION CONTACT: For information please contact COL David Trybula at david.c.trybula.mil@mail.mil.

SUPPLEMENTARY INFORMATION: Background. The Terms of Reference (TOR) provided by the Office of the Secretary of the Army directs the Army Science Board (ASB) to undertake a 2013 Summer Study on “Army Science and Technology (S&T) Essential Core Competencies.”

In accordance with the TOR, this study will analyze the current RDECOM portfolio and S&T projects and objectives; compare them to other U.S. Government laboratories, industrial laboratories, and academic institutions; and provide findings and recommendations, with supporting analytical underpinning. The study has identified the following product areas in which to seek core competencies: Armor/Anti-Armor; Armaments; Ground Vehicles; Aviation; Missiles; Space; C4ISR; Night Vision; Chemical/Biological Warfare; and Soldier Systems.

The study will focus on technologies developed by the RDECOM suborganizations: Army Research Laboratory (including Army Research Office); Armament Research, Development & Engineering Center (ARDEC); Aviation & Missile Research, Development & Engineering Center (AMRDEC); Communications-Electronics Research, Development & Engineering Center (CERDEC); Edgewood Chemical Biological Command (ECBC); Natick Soldier Research, Development & Engineering Center (NSRDEC); and Tank Automotive Research, Development & Engineering Center (TARDEC). (See www.army.mil/info/organization/unitsandcommands/commandstructure/redecom/for additional information.)

The ASB is tasked to identify which of these technologies must be developed in-house/on-site, which can be developed externally but must be supported by Army funds, and which will be developed by others without significant Army commitment of resources. Organizations to be considered that are external to the Army include other DoD organizations, other government organizations, international partners, commercial industry, FFRDCs, and universities.

Submission Instructions and Format: To respond to this request for information, interested parties should submit all information detailed below. Packages must be submitted by Friday, May 3, 2013 by 4 p.m. Eastern Standard Time. Submissions should briefly summarize the technologies within a maximum of four pages (as broken down in paragraphs c, d and e below), excluding quad chart, figures, references and the cover page. No proprietary information should be included in responses. Submissions require both a CD and a hard copy of the response. The size of the CD submission will be limited to 20 MB. The hard copy format specifications include 12 point font, single-spaced, single-sided, 8.5 by 11 inches paper, with 1-inch margins.

a. Quad Chart (1 page) The template for this is available upon request.

b. Cover Page (1 page only):

Title

Organization

Respondent's technical and administrative points of contact (names, addresses, phones and fax numbers, and email addresses)

c. Abstract (1 page only): Summarize technology solutions and how they support Army core competencies. Respondents are encouraged to be as succinct as possible while providing sufficient detail to adequately convey the technology solutions.

d. Technology Description (2 pages maximum): Provide an enhanced view of the technology solution you are proposing, focusing on the advantages of the technology and its applicability to the future Army core competencies. The description of each solution should include the current state of development and the predicted performance levels the technology should reasonably achieve. Also provide a summary of current performers. Describe whether this technology must be developed in-house by the Army, developed externally with Army support, or monitored by the Army as others develop the technology.

e. Applicability to Future Army core competency (1 page only): Identify and expound upon how the technology supports an Army core competency, concentrating on the added capability this solution provides that currently does not exist.

Please be as succinct as possible while providing sufficient detail to adequately convey the technical capabilities these solutions have to support the Army core competencies.

All Proposers should review the NATIONAL INDUSTRIAL SECURITY PROGRAM OPERATING MANUAL, (NISPOM), dated February 28, 2006, as it provides baseline standards for the protection of classified information and prescribes the requirements concerning Contractor Developed Information under paragraph 4-105. Defense Security Service (DSS) Site for the NISPOM is: http://www.dss.mil/isp/fac_clear/download_nispom.html.

Unclassified white papers/CDs must be mailed to the POC listed (see ADDRESSES and FOR FURTHER INFORMATION CONTACT). Proposers who intend to include classified information or data in their white paper submission or who are unsure about the appropriate classification of their white papers should contact the POC for guidance and direction in advance of preparation at phone number.

A listing of respondents and whether or not their submission was utilized will be made available for public inspection upon request. Open deliberation by the full committee is anticipated on or about July 18, 2013 in Colorado Springs, CO. This meeting will be preceded by standard Federal Register notification.

Brenda S. Bowen,
Army Federal Register Liaison Officer.

[FR Doc. 2013-08851 Filed 4-15-13; 8:45 am]

BILLING CODE 3710-08-P